DEPARTMENT OF VETERANS AFFAIRS

Special Medical Advisory Group; Notice of Meeting

The Department of Veterans Affairs (VA) gives notice under Public Law 92-463 (Federal Advisory Committee Act) that the Special Medical Advisory Group will meet on October 5, 2011, in Room 830 at VA Central Office, 810 Vermont Avenue, NW., Washington, DC, from 8:30 a.m. to 3 p.m. The meeting is open to the public.

The purpose of the Group is to advise the Secretary of Veterans Affairs and the Under Secretary for Health on the care and treatment of disabled Veterans, and other matters pertinent to the Department's Veterans Health Administration (VHA).

The agenda for the meeting will include discussions on academic affiliations, health care cost structure and value, women Veterans health care, the future of clinical education and simulation training.

No time will be allocated for receiving oral presentations from the public. However, members of the public may submit written statements for review by the Committee to Ms. Juanita Leslie, Department of Veterans Affairs, Office of Administrative Operations (10B2), Veterans Health Administration, 810 Vermont Avenue, NW., Washington, DC 20420, or e-mail at j.t.leslie@va.gov. Any member of the public wishing to attend the meeting or seeking additional information should contact Ms. Leslie at (202) 461-7019.

Dated: September 19, 2011.
By Direction of the Secretary.
Vivian Drake,
Acting Committee Management Officer.

[FR Doc. 2011-24410 Filed 9-22-11; 8:45 am]

BILLING CODE P